DEPARTMENT OF HOMELAND SECURITY

[Docket No. DHS-2010-0078]

Homeland Security Advisory Council

AGENCY: The Office of Policy, DHS.

ACTION: Notice of Closed Federal Advisory Committee Meeting.

SUMMARY: The Homeland Security Advisory Council (HSAC) will meet on October 14, 2010 in Washington, DC. The meeting will be closed to the public.

DATE: The HSAC will meet on Thursday, October 14, 2010 from 8 a.m. to 3 p.m. EST.

ADDRESSES: The meeting will be held at DHS Headquarters at the Nebraska Avenue Complex, Washington, DC 20528. Written comments must be submitted and received by October 8, 2010. Comments must be identified by Docket No. DHS-2010-0078 and may be submitted by one of the following methods:

• Federal eRulemaking Portal: http://www.regulations.gov. Follow the instructions for submitting comments.

• E-mail: HSAC@dhs.gov. Include docket number in the subject line of the message.

• Fax: (202) 282-9207.

• Mail: Homeland Security Advisory Council, Department of Homeland Security, Mailstop 0450, 245 Murray Lane, SW., Washington, DC 20528.

Instructions: All submissions received must include the words “Department of Homeland Security” and DHS-2010-0078, the docket number for this action. Comments received will be posted without alteration at http://www.regulations.gov, including any personal information provided.

Docket: For access to the docket to read background documents or comments received by the DHS Homeland Security Advisory Council, go to http://www.regulations.gov.

FOR FURTHER INFORMATION CONTACT: HSAC Staff at hsac@dhs.gov or 202-447-3135.

SUPPLEMENTARY INFORMATION: Notice of this meeting is given under the Federal Advisory Committee Act, 5 U.S.C. App. The HSAC provides independent, objective advice and recommendations for the consideration of the Secretary of the Department of Homeland Security on matters related to homeland security. The Council is comprised of leaders of local law enforcement, first responders, state and local government, the private sector, and academia.

The HSAC will meet for the purpose of receiving sensitive operational information from senior DHS leadership. The briefings will focus on sensitive sharing of real time information among TSA and federal and local law enforcement agencies concerning transportation infrastructure. Members will also receive domestic and international intelligence briefings that are focused on threats against the homeland which require responsive federal and law enforcement involvement. Members will learn about the potential capabilities and vulnerabilities identified in a cyber exercise and discuss potential methods to improve a federal response. Members will also be briefed on current operational plans for the Governors and Homeland Security Advisors January 2011 transition.

Summary of the Agenda

Sensitive Threat Briefings against the Homeland.

Governor and Homeland Security Advisors' Transitions.

Policy and Planning Issues related to the “If you see something, say something” campaign.

Watch List Operational Improvements.

Lessons Learned from the cyber exercise.

Basis for Closure: In accordance with Section 10(d) of the Federal Advisory Committee Act, it has been determined that this HSAC meeting's briefings and discussions require closure. Premature disclosure to the public of information which is shared in real time among TSA and local law enforcement agencies, and premature disclosure of the Governors and Homeland Security Advisors transitions plan could disclose investigative techniques and procedures not generally available to the public. This would allow those with interests against the United States to circumvent the law, thereby endangering the life or physical safety of law enforcement personnel. Consequently, the meeting will be closed in accordance with the criteria in 5 U.S.C. 552b(c)(7)(E)&(F). Furthermore, premature disclosure of the information from these briefings, as well as the capabilities and vulnerabilities gleaned from the cyber exercise, is likely to significantly frustrate implementation of changes specifically focused on DHS' internal plans, planning and sensitive processes within the meaning of 5 U.S.C. 552b(c)(9)(B).

Dated: September 21, 2010.
Becca Sharp,
Executive Director, Homeland Security Advisory Council, DHS.

[FR Doc. 2010-24170 Filed 9-24-10; 8:45 am]

BILLING CODE 4410-10-P